INTERNATIONAL TRADE COMMISSION

[Investigation No. 332-569]

U.S. SME Exports: Trade-Related Barriers Affecting Exports of U.S. Small- and Medium-Sized Enterprises to the United Kingdom

AGENCY: United States International Trade Commission.

ACTION: Notice, change in dates.

SUMMARY: Due to the lapse of appropriation between December 22, 2018 and January 25, 2019, the Commission has changed certain dates announced in its notice of investigation and hearing for these investigations: (i) It has extended the deadline for filing requests to appear at the public hearing from February 8, 2019 to March 28, 2019; (ii) it has extended the deadline for filing prehearing briefs and statements from February 13, 2019 to April 1, 2019; (iii) it has rescheduled the public hearing from February 26, 2019 to April 11, 2019; (iv) it has extended the deadline for filing post-hearing briefs from March 8, 2019 to April 18, 2019; (v) it has extended the deadline for filing all other written submissions from March 15, 2019 to April 30, 2019; and (vi) it will transmit its report to the USTR by September 4, 2019 instead of by July 31, 2019.

DATES: February 11, 2019.

FOR FURTHER INFORMATION CONTACT: Project Leader Mahnaz Khan (202-205-2046 or Mahnaz.khan@usitc.gov) or Deputy Project Leader Sarah Scott (202-708-1397 or sarah.scott@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: The Commission published notice of institution of the above referenced investigations in the Federal Register on September 6, 2018 (83 FR 45281, September 6, 2018). Due to the lapse in appropriation (December 22, 2018 to January 25, 2019), the Commission has changed certain dates announced in that notice regarding these investigations: (i) It has extended the deadline for filing requests to appear at the public hearing from February 8, 2019 to March 28, 2019; (ii) it has extended the deadline for filing prehearing briefs and statements from February 13, 2019 to April 1, 2019; (iii) it has rescheduled a public hearing from February 26, 2019 to April 11 2019; (iv) it has extended the deadline for filing post-hearing briefs from March 8, 2019 to April 18, 2019; (v) it has extended the deadline for filing all other written submissions from March 15, 2019 to April 30, 2019 and (vi) it will transmit its report to the USTR by September 4, 2019 instead of by July 31, 2019.

By order of the Commission.
Issued: February 12, 2019.
Lisa Barton,
Secretary to the Commission.

[FR Doc. 2019-02601 Filed 2-15-19; 8:45 am]

BILLING CODE 7020-02-P